DEPARTMENT OF THE TREASURY

Fiscal Service

Surety Companies Acceptable on Federal Bonds—Termination; GE Reinsurance Corporation

AGENCY: Financial Management Service, Fiscal Service, Department of the Treasury.

ACTION: Notice.

SUMMARY: This is Supplement No. 14 to the Treasury Department Circular 570, 2006 Revision, published June 30, 2006, at 71 FR 37694.

FOR FURTHER INFORMATION CONTACT: Surety Bond Branch at (202) 874-6850.

SUPPLEMENTARY INFORMATION: Notice is hereby given that the Certificate of Authority issued by the Treasury to the above-named company under 31 U.S.C. 9305 to quality as acceptable surety on Federal bonds has been terminated. The above-named company merged with and into Swiss Reinsurance America Corporation effective January 1, 2007. The surviving corporation of the merger activity is Swiss Reinsurance America Corporation, a New York domiciled corporation. Federal bond-approving officials should annotate their reference copies of the Treasury Department Circular 570 (“Circular”), 2006 Revision, to reflect this change.

In the event bond-approving officers have questions relating to bonds issued by the above-named company that has merged with and into Swiss Reinsurance America Corporation, they should contact Swiss Reinsurance America Corporation at (914) 828-8184.

The Circular may be viewed and downloaded through the Internet at http://www.fms.treas.gov/c570.

Questions concerning this notice may be directed to the U.S. Department of the Treasury, Financial Management Service, Financial Accounting and Services Division, Surety Bond Branch, 3700 East-West Highway, Room 6F01, Hyattsville, MD 20782.

Dated: June 15, 2007.
Vivian L. Cooper,
Financial Accounting and Services Division, Financial Management Service.

[FR Doc. 07-3176 Filed 6-27-07; 8:45 am]

BILLING CODE 4810-35-M